DEPARTMENT OF TRANSPORTATION

National Highway Traffic Safety Administration

49 CFR Part 565

[Docket No. NHTSA-2007-27830]

RIN 2127-AJ99

Vehicle Identification Number Requirements

AGENCY: National Highway Traffic Safety Administration (NHTSA), Department of Transportation (DOT).

ACTION: Notice of proposed rulemaking (NPRM).

SUMMARY: Based on concerns that the supply of unique available Vehicle Identification Numbers is diminishing, NHTSA is proposing to amend the agency's Vehicle Identification Number (VIN) regulation. The amendment would ensure that there will be a sufficient number of unique manufacturer identifiers and VINs for the current 17-character VIN system to use for at least another 30 years. This NPRM also proposes other changes to the VIN requirements, such as proposing to require that certain vehicle characteristics of low speed vehicles (LSVs) must be reflected in the VIN of LSVs. This rulemaking also responds to a petition for rulemaking from SAE International (SAE).

DATES: You should submit your comments early enough to ensure that Docket Management receives them not later than November 16, 2007. Proposed effective date of final rule: assuming that a final rule is issued, NHTSA proposes that the changes adopted by the rule would be mandatory beginning with model year 2010 and later model year vehicles manufactured on or after September 1, 2009.

ADDRESSES: You may submit comments identified by the above DOT Docket Number by any of the following methods:

If filing comments by September 27, 2007, please use:

• Web Site: http://dms.dot.gov. Follow the instructions for submitting comments on the Department of Transportation Docket Management System electronic docket site. No electronic submissions will be accepted between September 28, 2007, and October 1, 2007.

If filing comments on or after October 1, 2007, use:

• Federal eRulemaking Portal: Go to http://www.regulations.gov. Follow the online instructions for submitting comments.

Alternatively, you can file comments using the following methods:

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Instructions: For detailed instructions on submitting comments and additional information on the rulemaking process, see the Public Participation heading of the Supplementary Information section of this document. Note that all comments received will be posted without change to http://www.dms.dot.gov or http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://dms.dot.gov until September 27, 2007, or the street address listed above. The DOT docket may be offline at times between September 28 through September 30 to migrate to the Federal Docket Management System (FDMS). On October 1, 2007, the Internet access to the docket will be at http://www.regulations.gov. Follow the online instructions for accessing the dockets.

FOR FURTHER INFORMATION CONTACT: For technical issues, you may call Mr. Ken Hardie, Office of Rulemaking (Telephone: 202-366-6987) (Fax: 202-493-2739). For legal issues, you may call Ms. Rebecca Schade, Office of Chief Counsel (Telephone: 202-366-2992) (Fax: 202-366-3820). You may send mail to these officials at the National Highway Traffic Safety Administration, U.S. Department of Transportation, 1200 New Jersey Avenue, SE., West Building, Washington, DC 20590.

SUPPLEMENTARY INFORMATION:

Table of Contents

I. Background

II. Petitioner's Suggested Changes; NHTSA's Decisions on the Petition

a. The Content Requirements of the VIN

Section 1: Positions 1-3, the Manufacturer Identifier (§ 565.6(a))

Section 2: Positions 4-8, Attributes Of The Specific Type Of Vehicle Involved (§ 565.6(b))

Section 3: Position 9, the Check Digit (§ 565.6(c))

Section 4: Positions 10-17, Additional Vehicle-Specific Information (§ 565.6(d))

b. Petitioner's Suggested Changes for Low-Speed Vehicles

c. Other Aspects of the VIN Regulation

III. Summary of Key Proposed Changes

IV. Effective Date

V. Public Participation

VI. Rulemaking Analyses and Notices

I. Background

NHTSA requires vehicles to be marked with vehicle identification numbers (VINs) to simplify vehicle identification information retrieval and to increase the accuracy and efficiency of vehicle recall campaigns (49 Code of Federal Regulations (CFR) Part 565, “Vehicle Identification Number Requirements”). The VIN has become the key identifier in data systems that track compliance with Federal and state safety programs and that manage and analyze information on vehicle manufacturing processes, registrations, insurance programs, crash investigations and safety research. Organizations that utilize VINs in data systems include NHTSA, manufacturers, state motor vehicle departments, law enforcement agencies, insurance companies, and motor vehicle safety researchers.

49 CFR Part 565 stipulates the system under which each new vehicle sold in the United States receives a unique VIN. When Part 565 went into effect beginning in October of 1980, it was anticipated that the permutations available under the 17-character system described in Part 565 would provide a sufficient number of unique VINs and manufacturer identifiers such that, as required by Part 565, “the VINs of any two vehicles manufactured within a 30-year period shall not be identical.” That 30-year period is anticipated to expire in 2010.

Based on concerns that the supply of unique available VINs is shrinking, SAE's Vehicle Identification Number/World Manufacturer Identifier Technical Committee (“the committee” or “the petitioner”) ¹ petitioned ² NHTSA to modify the requirements of Part 565 such that unique VINs would be able to be provided for at least another thirty years. NHTSA is issuing this proposal so that unique VINs will continue to be available for vehicles manufactured for sale in this country.

¹ Organizations represented on the committee included: General Motors, International Truck and Engine Corporation, RL Polk & Company, The Hill Group, Freightliner Truck Division, American Association of Motor Vehicle Administrators, American Suzuki Motor Corporation, Harley Davidson Motor Company, Motorcycle Industry Council, Ford Motor Company, Transport Canada, National Insurance Crime Bureau (NICB), DaimlerChrysler Corporation, and NHTSA. Representatives from Clifford Thames IMS in the United Kingdom, the Highway Loss Data Institute, and Caterpillar, Inc. were also given the opportunity to comment on the committee's work.

² Petition dated October 31, 2005; corrected February 23, 2006. A letter granting the petition was sent March 7, 2006.

II. Petitioner's Suggested Changes; NHTSA's Decisions on the Petition

This section sets forth the petitioner's suggested changes to the VIN requirements. These are marked in bullet format, and are followed by NHTSA's response to each suggested change. As discussed below, NHTSA generally agrees with most of the petitioner's suggestions. To the extent the agency does not agree, the reasons for doing so are explained.

NHTSA generally concurs with the petitioner's suggested amendments to the VIN requirements (except as noted) because the agency tentatively concludes that the changes would achieve two objectives: They would increase the number of manufacturer identifiers and VINs available for the foreseeable future, thus preserving the one vehicle-one VIN structure, and they would preserve the 17-character VIN system, thereby avoiding the potential imposition of substantial costs on the many current users of VINs in data systems. NHTSA agrees with the petitioner that the current supply of manufacturer identifiers available for large manufacturers in this country could expire in the near future. That, coupled with the rising likelihood of duplicate VINs occurring, would adversely impact the many organizations that maintain an orderly system for identifying and tracking vehicles.

a. The Content Requirements of the VIN

The VIN regulation (49 CFR Part 565) requires that VINs must consist of 17 characters in a fixed format. The VIN regulation (at § 565.6) separates the 17-character VIN into four sections: (a) Section 1: Positions 1-3, the manufacturer identifier; (b) Section 2: Positions 4-8, attributes of the specific type of vehicle involved; (c) Section 3: Position 9, the check digit; and (d) Section 4: Positions 10-17, additional vehicle-specific information.

Section 1: Positions 1-3, the Manufacturer Identifier (§ 565.6(a))

The VIN regulation requires this section to consist of three characters that uniquely identify the manufacturer, make, and type of the motor vehicle if the manufacturer produces 500 or more motor vehicles of its type annually. If the manufacturer produces fewer than 500 motor vehicles of its type annually, these characters along with three characters of the fourth section (positions 12-14) shall uniquely identify the manufacturer, make, and type of the motor vehicle.

The petitioner was particularly concerned about the supply of unique manufacturer identifiers for large U.S. manufacturers. NHTSA contracts with SAE to coordinate the assignment of manufacturer identifiers (§ 565.7(a)). In issuing the identifiers, SAE ensures that the identifier complies with both Part 565 and the requirements of International Standard 3780, Road vehicles—world manufacturer identifier (WMI) code (dated 1983). In International Standard 3780, Ref. No. ISO 3780-1983 (E), the manufacturer identifier is referred to as the World Manufacturer Identifier (WMI). International Standard 3780 requires the first character of the WMI to represent the geographic area of the world in which the subject vehicle was manufactured. The second character of a WMI must indicate the country (although the standard does not specify how to determine what country should be indicated, e.g., place of manufacture, place of final assembly, place of company headquarters, etc.). In contrast, § 565.6(a) currently requires that manufacturers communicate manufacturer, make, and type of motor vehicle in the first three positions of a VIN.

• The petitioner states that, to comply with Part 565, large manufacturers (as defined in the standard) in this country with multiple makes of vehicles have needed multiple manufacturer identifiers, which the petitioner believes is draining the supply of manufacturer identifiers/WMIs for producers in this country. The petitioner requests eliminating the Part 565 requirement that the manufacturer identifier identify the vehicle “make,” stating that, “The elimination of the `make' would allow for the use of a `corporate' WMI for each vehicle `type' with the vehicle `make' described elsewhere in the VIN.” According to SAE, not only do U.S. manufacturers have a large number of vehicle makes for which separate manufacturer identifiers are now required, more than fifty new large manufacturer identifiers are issued to them each year. SAE indicates that only approximately 400-450 large manufacturer identifiers remain in the current system.

NHTSA's response: We are proposing the suggested change regarding vehicle make. The most pressing concern relating to the VIN system is the rapidly dwindling number of unique available manufacturer identifiers for large manufacturers in the U.S., as described above. The proposed changes would positively affect the supply of those identifiers available for large manufacturers in two ways. First, by moving vehicle make from the manufacturer identifier to the second section of the VIN, there would be a substantial reduction in the proliferation of new manufacturer identifiers for large manufacturers. Since manufacturers in the U.S. would no longer need to communicate vehicle make in the identifier to comply with Part 565, they would not have to obtain new manufacturer identifiers in the near future and possibly ever. (This NPRM proposes to amend Table 1 of Part 565 to establish the “vehicle make” as a required information element for each vehicle type. See discussion relating to Section 2, infra.)

Second, since they will no longer need to communicate vehicle make in the identifier to comply with Part 565, many major manufacturers in the U.S. will have an immediate excess of manufacturer identifiers. It is anticipated that over time many of these large manufacturers will release some, perhaps many, of the manufacturer identifiers that have been previously issued to them.³ These released manufacturer identifiers could then be assigned to other manufacturers as needed. Comments are requested on the likelihood and implications of manufacturers releasing previously-issued identifiers that are no longer in use. The agency is particularly interested in receiving comments on this from large manufacturers.

³ Some of the large manufacturers represented on the SAE committee indicated that this could likely occur.

Exactly how many WMIs these changes to Part 565 would make available to the VIN system cannot be determined. The initial supply of 3,267 large manufacturer identifiers has lasted for 30 years. Under the proposed revisions to Part 565, the only time large manufacturers will need a new manufacturer identifier is when they begin to manufacture a new vehicle type. The only other drain on the supply of available manufacturer identifiers will come from new large manufacturers that emerge. The agency believes that the proposed changes to the VIN system, particularly removing vehicle make from the information that must be communicated in the manufacturer identifier, should result in a supply of available manufacturer identifiers that will last for approximately the next 30 years.

• Section 565.6(a) specifies a production threshold of 500 units for determining whether a WMI must be comprised of three VIN positions or of six positions. The petitioner states that in practice, U.S. manufacturers assigned six character WMIs produce nearly 900 units annually before the SAE replaces their six-character WMIs with “large manufacturer” (three-character) WMIs. The petitioner suggests that the threshold for using a six-character WMI should be raised to 900 units “to align the regulation with actual practice.”

NHTSA's response: We agree that the production threshold should be raised, but propose to raise it to 1000 units rather than 900 units as suggested by the petitioner. Currently, Part 565 requires small manufacturers (making fewer than 500 vehicles of a given type per year) to have a six-character manufacturer identifier, using VIN positions 12-14 in addition to positions 1-3 for their manufacturer identifier. Small manufacturers then use the last three VIN positions (15-17) for sequentially numbering their vehicles. The petition indicated that small manufacturers often seek a large manufacturer identifier after the threshold of 500 vehicles has been exceeded. Whenever this occurs, the small manufacturer is in technical violation of Part 565. Moreover, the small manufacturer remains in technical violation by continuing to produce vehicles, because it has all the numbers from 501 to 999 left to number its vehicles sequentially before it faces the more serious problem of no longer being able to do so.

The petition requested a threshold in Part 565 of 900 vehicles, so that a manufacturer that reaches this level of production would still have 99 numbers left before running out of available numbers for sequentially numbering vehicles. The petitioner anticipates that reaching a 900-unit threshold would prompt a manufacturer to approach SAE to obtain a large manufacturer identifier before it runs out of numbers.

NHTSA has two concerns with the 900-vehicle threshold proposed by the petition. First, specifically incorporating a new threshold of 900 units into Part 565 would perpetuate the current situation, albeit in fewer instances, where it is easily possible for a manufacturer to be in technical violation of Part 565. Second, there is little apparent benefit to setting the cutoff at 900 vehicles as opposed to 999, particularly in this era of virtually instant communication.

NHTSA therefore proposes to amend Part 565 such that a “high-volume manufacturer,” which the regulation would define as one producing 1,000 or more vehicles, must use a three-digit manufacturer identifier, and a “low-volume manufacturer,” which would be defined as a manufacturer that produces fewer than 1,000 vehicles, must use a six-digit manufacturer identifier. This should eliminate the problem of small manufacturers finding themselves in technical violation, because they will run out of unique available VINs (which will prevent them from selling additional vehicles produced) at the same time that they need to seek a new manufacturer identifier. Comments are requested on the threshold of 999 units, and on whether the VIN regulation should specify that all requests to the SAE for manufacturer identifiers should include “proposed production levels for vehicles of this type.” (The latter approach was suggested by the petitioner.)

• The petitioner states that the SAE has assigned WMIs such that the presence of a “9” in the third VIN position indicates that the VIN contains a six-character WMI. The petition states that the committee has discovered that users of VIN information are typically unaware of this information, and requests that § 565.6(a) include a reference to this number “9” in the third position “to aid field comprehension of the VIN structure.”

The agency agrees with this reasoning and is proposing to add a sentence explaining the significance of the “9” to this section.

Section 2: Positions 4-8, Attributes of the Specific Type of Vehicle Involved (§ 565.6(b))

The VIN regulation (§ 565.6(b)) specifies that the second section must consist of five characters, occupying positions four through eight in the VIN, which uniquely identify the attributes of the vehicle as specified in Table 1 of Part 565. The regulation specifies that positions four and five be alphabetic characters and that position six must be a numeric value for all passenger cars, multipurpose passenger vehicles (MPVs) and trucks with a gross vehicle weight rating of 4,536 kilograms (kg) (10,000 pounds (lbs)) or less. The regulation also specifies that position seven must be a numeric value for those vehicles.

• The petitioner states that § 565.6(b)'s limitations on use of alphabetic and numeric values are more restrictive than both the SAE and ISO standards for vehicle identification, resulting in what the petitioner believes to be “VIN structures that are difficult to decode” or in “less refinement and resolution in VIN information available to users of the VIN content.” The petitioner believes that allowing either alphabetic or numeric characters in positions four through six of the VIN would result in greater flexibility to manufacturers, allow for more descriptive vehicle information, and achieve harmonization with the ISO identification standard. Moreover, the petitioner states that if alphabetic characters in position seven of the VIN were permitted, “the number of possible combinations would increase from the approximately 53,000 currently available to slightly more than 826,000 possible combinations.” Petitioner suggests that the change would ensure that no identical VINs will exist in a 60-year period,⁴ which consists of the 30-year period covered by the current regulation plus the additional 30 years that would result from the changes proposed in this NPRM.

⁴ The general requirements of the VIN regulation specify that the VINs of any two vehicles manufactured within a 30-year period must not be identical (§ 565.4(d)). The petitioner believes there is a likelihood, though small, of repeating VINs at a 31-year interval, and suggested that § 565.4 be amended to specify a 60-year period. We tentatively conclude that the requested change has merit, and are proposing to amend § 565.4(d) to ensure non-repeatability of VINs.

NHTSA's response: We have tentatively decided that the petitioner's approach has merit. According to the petitioner's estimates, the proposed changes should add at least several hundred thousand new unique available VINs, and probably many more. For example, the petition calculates that just for the changes proposed for positions 4-7 of the VIN, there should be a total of 826,551 combinations as compared to 52,900 available under the current Part 565. This number is derived from the fact that there will be a total of 33 characters (23 alphabetic plus 10 numeric) available in each of positions 4-6 and 23 characters in position 7 under the proposed changes, whereas under the current Part 565 there are 23 characters (alphabetic only) available in positions 4 and 5 and 10 characters available (numeric only) in positions 6 and 7. Thus:

Current total combinations, positions 4-7: 23 × 23 × 10 × 10 = 52,900

Proposed total combinations, positions 4-7: 33 × 33 × 33 × 23 = 826,551.

Additionally, in any given year the factors that will further affect the number of unique VINs available to any specific manufacturer include, among others: the 33 characters available in position 8 of the VIN, which will allow for permutations in just the second section of the VIN (positions 4-8) in the millions (the maximum possible would be 826,551 × 33 = 27,276,183); the number of manufacturer identifiers a manufacturer has or that are available to be issued to that manufacturer; the change in the VIN digit for the model year (see discussion, infra); the number of plants a manufacturer has since each plant is indicated by a specific character in position 11 of the VIN (see discussion, infra); and the sequential numbering of vehicles. The cumulative effect of these factors increases substantially the current number of VINs available under Part 565.

Comments are requested on the proposed changes. Chief among the concerns of the petitioner when formulating the suggested revisions to the VIN requirements was how to expand significantly the quantity of unique available manufacturer identifiers and VINs without imposing significant costs associated with data systems that use or rely on 17-character VINs. The petitioner believes that the suggested changes to the VIN system would achieve those goals. NHTSA has tentatively agreed with this determination. Comments are requested on whether this conclusion is correct.

• As mentioned earlier in this preamble, this NPRM proposes to amend Table 1 of Part 565 to establish the “vehicle make” as an information element required in positions four through eight of the VIN for each vehicle type. This change complements the proposal that vehicle make be removed from the manufacturer identifier (Section 1 of the current VIN).

• An attribute of passenger cars that is specified in Table 1 is “restraint system type.” The petitioner states: “To make identification of restraint system more effective, we request amendment of Part 565.6(b) to require that a manufacturer shall uniquely identify the type and location of all restraint devices on every passenger car.” NHTSA agrees that the proposal has merit, since information on the type and location of all restraint devices in the vehicle could be useful to safety researchers and other analysts. Moreover, NHTSA requests comments on whether this information should be required for all passenger vehicles, not just passenger cars.

Section 3: Position 9, the Check Digit (§ 565.6(c))

The third VIN section consists of one character in the 9th position, called the “check digit.” This reflects a mathematical computation specified in § 565(c)(1) through (4) that is based on the other VIN characters and serves as a check against typographical errors that may occur in transcribing a VIN.

• The petitioner asked that a table it developed be added to § 565.6(c)(4) to “clarify the check digit value.” The petitioner explained that the table provides a reference for the correct check digit value to use based on both a fractional and decimal equivalent remainder. The petitioner stated: “The committee believes that the inclusion of a decimal equivalent remainder is important due to widespread use of electronic calculation devices.” The petitioner therefore suggested changing the sample check digit calculation shown currently in Table V of § 565.6(c)(5) to include a decimal equivalent remainder.

NHTSA's response: We agree that including the suggested table would likely help clarify the correct check digit value to be used, to the extent that there is confusion on this issue. Changing the sample calculation to include a decimal equivalent remainder makes sense given the addition of the proposed table. Comments are requested on whether these changes are necessary or helpful.

Section 4: Positions 10-17, Additional Vehicle-Specific Information (§ 565.6(d))

The fourth section consists of eight characters occupying positions 10-17, and includes sequential numbering of vehicles. Positions 10 and 11 are for the model year and plant of manufacture, respectively. For manufacturers of 1,000 or more vehicles of a given type, positions 12 through 17 are used to sequentially number groups of similar vehicles that are manufactured by the manufacturer.

• For manufacturers initially intending to produce fewer than 500 of a type of vehicle, VIN positions 12-14 are additional characters used for the manufacturer identifier specific to the manufacturer. The petitioner states that the VIN regulation implies that VIN position twelve must be numeric, and specifically requires that positions thirteen and fourteen be numeric. The petitioner requests that the regulation be amended to explicitly allow VIN positions twelve through fourteen to use alphabetic or numeric characters when those positions are used as part of the manufacturer identifier of a small manufacturer.

NHTSA's response: We concur that for manufacturers that produce less than 1,000 vehicles per model year, allowing either alphabetic or numeric characters in positions 12-14 as part of the six-character manufacturer identifier significantly expands the number of unique manufacturer identifiers available to them. The resultant number of additional manufacturer identifiers is at least 12,167 (23 new characters (excluding I, O, and Q) available in each of positions 12-14; 23 × 23 × 23 = 12,167). According to SAE, currently about 300 new manufacturer identifiers are issued each year for these manufacturers. At this rate, the proposed changes would add at least forty years' worth of manufacturer identifiers for small manufacturers.

• Table VI of § 565.6(d)(1) sets forth codes that are used in position 10 of the VIN to indicate the vehicle model year. Currently, the table goes up to year 2013. The petitioner suggested changing the table to include codes up to and including the year 2039, since the petitioner believes that with “the adoption of the petition content listed above, the current VIN structure will have long-term viability.” NHTSA is proposing this change to Table VI for the reasons provided by the petitioner.

b. Petitioner's Suggested Changes for Low-Speed Vehicles

Federal Motor Vehicle Safety Standard (FMVSS) No. 500, “Low-speed vehicles,” requires low-speed vehicles (LSVs) ⁵ to have a VIN that conforms to the requirements of part 565 (FMVSS No. 500, S5(b)(9)). However, the application section of Part 565 does not include LSVs, and there are no substantive requirements in Part 565 for these vehicles.

⁵ The definition of an LSV is set forth in 49 CFR 571.3 as follows: Low-speed vehicle means a vehicle, that is 4-wheeled, whose speed attainable in 1.6 km (1 mile) is more than 32 kilometers per hour (20 miles per hour) and not more than 40 kilometers per hour (25 miles per hour) on a paved level surface, and whose GVWR is less than 1,361 kilograms (3,000 pounds).

• The petition asked NHTSA to amend the application section of the VIN regulation (§ 565.2) to include LSVs, and to amend § 565.4(f) to specify where the VIN must be located in LSVs. In addition, the petitioner suggested that Table 1 of § 565.6(b) include “specific requirements for positions four through eight (4-8) of VINs assigned to LSVs to clearly identify this class of vehicle.” The petition did not suggest which elements should be included in Table 1 to achieve this result.

NHTSA's response: We are granting this request. Amending the application section of Part 565 would make the regulation clearer and more consistent with FMVSS No. 500. Specifying where the VIN must be located in LSVs would ensure that the VIN is accessible and legible.

FMVSS No. 500 requires LSVs to be equipped with headlamps, front and rear turn signal lamps, taillamps, stop lamps, reflex reflectors of specified colors, exterior mirrors, a parking brake, a windshield, and a lap or lap and shoulder seat belt assembly at each designated seating position (S5, FMVSS No. 500). NHTSA tentatively concludes that some of these attributes should be decipherable from the VIN of an LSV, since information about these attributes could be useful in analyses of crashes, theft, or other matters. These attributes are: Vehicle make, engine type, brake system, all restraint devices and their location, body type, and gross vehicle weight rating. NHTSA requests comment on whether the attributes proposed are appropriate, and whether other attributes should be considered as well.

c. Other Aspects of the VIN Regulation

• Imports

Section 565.5 contains requirements for motor vehicles imported into the United States. Section 565.5(b) specifies requirements for passenger cars certified by a Registered Importer under 49 CFR Part 592,⁶ but not for any other types of vehicles. The petitioner requested amending this section to include MPVs and trucks with a GVWR of 4,536 kg (10,000 lb) or less. NHTSA concurs that this proposed change has merit since the other vehicle types are imported by registered importers, and has also included low speed vehicles among the vehicles covered by § 565.5(b) for the same reason.

⁶ 49 CFR Part 592, “Registered Importers of Vehicles Not Originally Manufactured to Conform to the Federal Motor Vehicle Safety Standards.”

• Type Faces Permitted for a VIN

Section 565.4(i) specifies that the type face used for each VIN shall consist of capital, sanserif characters. The petitioner stated that some manufacturers have been using a “posident” font type face based on a 1978 NHTSA interpretation,⁷ and requests that the regulation “allow the use of a positive identification style font face as an alternate to the current sanserif font typeface.”

⁷ The petitioner did not identify the interpretation. The agency assumes it is a letter to Mr. R.W. Fink, available at http://isearch.nhtsa.gov/aiam/aiam2912.html.

NHTSA's response: We are not granting this request. The petition did not identify the similarity or distinction between “posident” font, which it asserts is allowed under a NHTSA interpretation, and “positive identification style” font, which it requests be allowed as an alternative. NHTSA has insufficient information on this matter to include it in this NPRM.

III. Summary of Key Proposed Changes

This NPRM proposes to amend Part 565 by revising certain sections in order to extend the existing VIN system for another thirty years, and to ensure a sufficient supply of unique available VINs and manufacturer identifiers for that time period. The following points highlight the key provisions of the proposed requirements:

• The proposed rule would move the location of the information conveying vehicle make from the manufacturer identifier to the second section of the VIN, which should increase the supply of unique available manufacturer identifiers for large manufacturers, because they will no longer need some of the identifiers they currently have, or need to request additional manufacturer identifiers for new vehicle makes that they produce.

• The proposed rule would increase the number of characters available for positions 4-8 of the VIN: Changing positions 4-6 and 8 to either alphabetic or numeric, and position 7 to alphabetic. This is anticipated to increase the number of unique available VINs.

• The proposed rule would allow either alphabetic or numeric characters in positions 12-14 as part of the six-character manufacturer identifier, which should increase the number of manufacturer identifiers available to low-volume manufacturers.

• The proposed rule would add definitions for “high-volume manufacturer,” and “low-volume manufacturer.” The threshold between a high- and low-volume manufacturer is a production output of 1000 vehicles of a given type each year.

• The proposed rule would add low-speed vehicles to the list of vehicles to which Part 565 applies, and adds attributes of LSVs that should be identified by an LSV's VIN.

IV. Effective Date

The petitioner suggested that the changes take effect beginning with the 2010 model year, when the supply of manufacturer identifiers for U.S. manufacturers could be exhausted and duplicate manufacturer identifiers and VINs could begin to appear.

NHTSA tentatively concludes that a final rule resulting from this NPRM should be effective on a date sufficiently early to prevent the expiration of available manufacturer identifiers and unique VINs, and far enough in the future to allow various parties that will be affected by a VIN system change to plan for and make whatever data system changes will be required. That date is tentatively determined to be January 1, 2009, which corresponds to the 2010 model year suggested by the petitioner. Model year 2010 vehicles manufactured on or after September 1, 2009, would be required to have a VIN meeting the new requirements. Model year 2009 vehicles manufactured on or after September 1, 2009 would be expected to comply with the current regulation. NHTSA requests comment on whether this date provides enough lead time for those who need to make changes to computer systems to accommodate the changes.

V. Public Participation

How Do I Prepare and Submit Comments?

Your comments must be written and in English. To ensure that your comments are filed correctly in the Docket, please include the docket number of this document in your comments.

Your comments must not be more than 15 pages long (see 49 CFR 553.21). We established this limit to encourage you to write your primary comments in a concise fashion. However, you may attach necessary additional documents to your comments. There is no limit on the length of the attachments.

Please submit two copies of your comments, including the attachments, to Docket Management at the address given under ADDRESSES.

You may also submit your comments to the docket electronically by logging onto the Dockets Management System Web site at http://dms.dot.gov. Click on “Help & Information,” or “Help/Info” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation (49 CFR part 512).

Will The Agency Consider Late Comments?

We will consider all comments that Docket Management receives before the close of business on the comment closing date indicated above under DATES. To the extent possible, we also will consider comments that Docket Management receives after that date. If Docket Management receives a comment too late for us to consider it in developing the final rule, we will consider that comment as an informal suggestion for future rulemaking action.

How Can I Read The Comments Submitted By Other People?

You may read the comments received by Docket Management at the address given under ADDRESSES. The hours of the Docket are indicated above in the same location.

You also may see the comments on the Internet. To read the comments on the Internet, take the following steps:

1. Go to the Docket Management System (DMS) Web page of the Department of Transportation (http://dms.dot.gov/).

2. On that page, click on “search.”

3. On the next page (http://dms.dot.gov.search/), type in the four-digit docket number shown at the beginning of this document. Example: If the docket number were “NHTSA-2007-1234,” you would type “1234.” After typing the docket number, click on “search.”

4. On the next page, which contains docket summary information for the docket you selected, click on the desired comments. Although the comments are imaged documents, instead of word processing documents, the “pdf” versions of the document are word searchable.

Please note that even after the comment closing date, we will continue to file relevant information in the Docket as it becomes available. Further, some people may submit late comments. Accordingly, we recommend that you periodically check the Docket for new material.

Note that all comments received will be posted without change to http://dms.dot.gov, including any personal information provided. Please see the Privacy Act discussion at the end of the next section.

VI. Rulemaking Analyses and Notices

Executive Order 12866 and DOT Regulatory Policies and Procedures

This rulemaking document was not reviewed by the Office of Management and Budget under E.O. 12866. It is not considered to be significant under E.O. 12866 or the Department's Regulatory Policies and Procedures (44 FR 11034; February 26, 1979). This document proposes changes to the VIN requirements that for the most part provide manufacturers greater flexibility in meeting VIN requirements:

• The proposed rule would increase the supply of unique available manufacturer identifiers for large manufacturers, because they will no longer need to request additional manufacturer identifiers for new vehicle makes that they produce.

• The proposed rule would permit the use of either alphabetic or numeric characters in many positions of the VIN.

• The proposed rule would permit low-volume manufacturers to manufacture 999 vehicles (increased from 499) before a new manufacturer identifier is required.

• The proposed rule would reduce or eliminate the waiting period before the time an identifier or VIN can be used.

• The proposed rule would add low-speed vehicles to the list of vehicles to which Part 565 applies, and would add attributes of LSVs that should be identified by an LSV's VIN.

Vehicle manufacturers, including those of low-speed vehicles, are already required to label their vehicles with a VIN and report to NHTSA information relating to deciphering the characters in the VIN. This proposed rule would not substantially change those requirements. The minimal impacts of today's proposed amendments do not warrant preparation of a regulatory evaluation.

NHTSA anticipates no direct safety impacts from this proposed rule. However, NHTSA believes that this NPRM has a beneficial effect on safety in that it would ensure the continued integrity of the VIN system (ensuring that vehicles will continue to be uniquely identified).

There might be some cost impacts in changing data retrieval and recordkeeping systems to account for features of the VIN that might be different than those of current VINs (e.g., the use of alphabetic and numeric characters in certain VIN positions). However, NHTSA does not believe that the costs would be significant. The members of the committee representing operators of data systems that utilize the 17-character VIN system indicated that there would be some costs involved in making software and other modifications to data systems required by changes proposed in the petition, but that those costs would be extremely small compared to what would be required to deal with an expanded number of VIN characters. The petition noted that “any increase in the quantity of characters beyond the current seventeen would require massive software changes to all programs that use a motor vehicle VIN, and would affect not only automotive OEM's, but also state DMV's, local governments, insurance companies, law enforcement agencies, research companies, NHTSA's National Center for Statistics and Analysis, as well as others.” Comments are requested on the cost of the proposed changes to Part 565.

Regulatory Flexibility Act

Pursuant to the Regulatory Flexibility Act (5 U.S.C. 601 et seq., as amended by the Small Business Regulatory Enforcement Fairness Act (SBREFA) of 1996), whenever an agency is required to publish a notice of proposed rulemaking or final rule, it must prepare and make available for public comment a regulatory flexibility analysis that describes the effect of the rule on small entities (i.e., small businesses, small organizations, and small governmental jurisdictions). The Small Business Administration's regulations at 13 CFR Part 121 define a small business, in part, as a business entity “which operates primarily within the United States.” (13 CFR 121.105(a)). No regulatory flexibility analysis is required if the head of an agency certifies the rule will not have a significant economic impact on a substantial number of small entities. SBREFA amended the Regulatory Flexibility Act to require Federal agencies to provide a statement of the factual basis for certifying that a rule will not have a significant economic impact on a substantial number of small entities.

NHTSA has considered the effects of this proposed rule under the Regulatory Flexibility Act. I certify that this proposed rule would not have a significant economic impact on a substantial number of small entities. Any small vehicle manufacturers that might be affected by this proposed rule are already required to provide a VIN and provide information to NHTSA that enables the VIN to be deciphered. Manufacturers of low-speed vehicles would have to make sure that the VIN reflects the six LSV features newly added to Table 1 of Part 565, but the burden associated with that responsibility should be negligible and would not incur a significant economic impact.

Executive Order 13132 (Federalism)

NHTSA has examined today's NPRM pursuant to Executive Order 13132 (64 FR 43255, August 10, 1999) and concluded that no additional consultation with States, local governments or their representatives is mandated beyond the rulemaking process. The agency has concluded that the rule does not have federalism implications because the rule does not have “substantial direct effects on the States, on the relationship between the national government and the States, or on the distribution of power and responsibilities among the various levels of government.” We note that the American Association of Motor Vehicle Administrators (AAMVA) was a member of the SAE committee that submitted the petition prompting this rulemaking.

Further, no consultation is needed to discuss the preemptive effect of today's proposed rule. NHTSA rules can have preemptive effect in at least two ways. First, the National Traffic and Motor Vehicle Safety Act contains an express preemptive provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1).

In addition to the express preemption noted above, the Supreme Court has also recognized that State requirements imposed on motor vehicle manufacturers, including sanctions imposed by State tort law, can stand as an obstacle to the accomplishment and execution of a NHTSA safety standard. When such a conflict is discerned, the Supremacy Clause of the Constitution makes their State requirements unenforceable. See Geier v. American Honda Motor Co., 529 U.S. 861 (2000). NHTSA has not outlined such potential State requirements in today's rulemaking, however, in part because such conflicts can arise in varied contexts, but it is conceivable that such a conflict may become clear through subsequent experience with today's proposed rule. NHTSA may opine on such conflicts in the future, if warranted. See id. at 883-86.

National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.” Voluntary consensus standards are technical standards (e.g., materials specifications, test methods, sampling procedures, and business practices) that are developed or adopted by voluntary consensus standards bodies, such as SAE. The NTTAA directs us to provide Congress, through OMB, explanations when we decide not to use available and applicable voluntary consensus standards.

This NPRM would make Part 565's requirements for manufacturer identifiers and for identifying attributes of the specific vehicle type more consistent with SAE and ISO standards for vehicle identification. The NPRM would permit the use of alphabetic and numeric characters in certain VIN positions, which would substantially increase harmonization of Part 565 with the ISO identification standard.

Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). This final rule will not result in expenditures by State, local or tribal governments, in the aggregate, or by the private sector in excess of $100 million annually.

National Environmental Policy Act

NHTSA has analyzed this rulemaking action for the purposes of the National Environmental Policy Act. The agency has determined that implementation of this action will not have any significant impact on the quality of the human environment.

Executive Order 12988 (Civil Justice Reform)

When promulgating a regulation, Executive Order 12988 specifically requires that the agency must make every reasonable effort to ensure that the regulation, as appropriate: (1) Specifies in clear language the preemptive effect; (2) specifies in clear language the effect on existing Federal law or regulation, including all provisions repealed, circumscribed, displaced, impaired, or modified; (3) provides a clear legal standard for affected conduct rather than a general standard, while promoting simplification and burden reduction; (4) specifies in clear language the retroactive effect; (5) specifies whether administrative proceedings are to be required before parties may file suit in court; (6) explicitly or implicitly defines key terms; and (7) addresses other important issues affecting clarity and general draftsmanship of regulations.

NHTSA has reviewed this proposed rule according to the general requirements and the specific requirements for regulations set forth in Executive Order 12988. This proposed rule does not result in any preemptive effect and does not have a retroactive effect. A petition for reconsideration or other administrative proceeding is not required before parties may file suit in court.

Paperwork Reduction Act

Under the Paperwork Reduction Act of 1995 (PRA), a person is not required to respond to a collection of information by a Federal agency unless the collection displays a valid OMB control number. The Consolidated VIN Requirements have an OMB control number of 2127-0510. As a result of this NPRM being made final, although the agency may require information to be provided in a slightly different way (e.g., vehicle make being transferred from the first to the second section of the VIN), the scope of the overall reporting requirements of Part 565 will not change. We emphasize that there will be no increase or decrease in the collection of information because of this rulemaking.

Plain Language

Executive Order 12866 and the President's memorandum of June 1, 1998, require each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Please note that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov until October 1, 2007; after October 1, 2007, you may visit http://DocketInfo.dot.gov.

List of Subjects in 49 CFR Part 565

Motor vehicle safety, Reporting and recordkeeping requirements; incorporation by reference.

In consideration of the foregoing, NHTSA proposes to amend 49 CFR Part 565 as follows:

PART 565—VEHICLE IDENTIFICATION NUMBER REQUIREMENTS

1. The authority citation continues to read as follows:

Authority: 49 U.S.C. 322, 30111, 30115, 30117, 30141, 30146, 30166, and 30168; delegation of authority at 49 CFR 1.50.

2. In § 565.2, the first sentence is revised to read as follows:

§ 565.2 Applicability.

This part applies to passenger cars, multipurpose passenger vehicles, trucks, buses, trailers (including trailer kits), incomplete vehicles, low speed vehicles, and motorcycles.

* * * * *

3. In § 565.3, paragraphs (i) through (o) are redesignated as paragraphs (l) through (r), and paragraphs (i), (j), and (k) are added as follows:

§ 565.3 Definitions.

* * * * *

(i) Manufacturer identifier shall refer to the first three digits of a VIN of a vehicle, in the case of a high-volume manufacturer, and the first three digits of a VIN and the twelfth through fourteenth digits of a VIN in the case of a low-volume manufacturer.

(j) High-volume manufacturer, for purposes of this part, means a manufacturer of 1,000 or more vehicles of a given type each year.

(k) Low-volume manufacturer, for purposes of this part, means a manufacturer of fewer than 1,000 vehicles of a given type each year.

* * * * *

4. In § 565.4, paragraphs (d) and (f) are revised to read as follows:

§ 565.4 General requirements.

* * * * *

(d) The VINs of any two vehicles subject to Federal motor vehicle safety standards and manufactured within a 60-year period beginning with the 1981 model year shall not be identical.

* * * * *

(f) The VIN for passenger cars, multipurpose passenger vehicles, low speed vehicles, and trucks of 4536 kg or less GVWR shall be located inside the passenger compartment. It shall be readable, without moving any part of the vehicle, through the vehicle glazing under daylight lighting conditions by an observer having 20/20 vision (Snellen) whose eye-point is located outside the vehicle adjacent to the left windshield pillar. Each character in the VIN subject to this paragraph shall have a minimum height of 4 mm.

* * * * *

5. In § 565.5, paragraph (b) is revised to read as follows:

§ 565.5 Motor vehicles imported into the United States.

* * * * *

(b) All passenger cars, multipurpose passenger vehicles, low speed vehicles, and trucks of 4536 kg or less GVWR certified by a Registered Importer under 49 CFR part 592 whose VINs do not comply with Part 565.4 and 565.5 shall have a plate or label that contains the following statement, in characters with a minimum height of 4 mm, with the identification number assigned by the original manufacturer provided in the blank: SUBSTITUTE FOR U.S. VIN: _______ SEE PART 565. The plate or label shall conform to § 565.4 (h) and (i). The plate or label shall be permanently affixed inside the passenger compartment. The plate or label shall be readable, without moving any part of the vehicle, through the vehicle glazing under daylight conditions by an observer having 20/20 vision (Snellen) whose eye-point is located outside the vehicle adjacent to the left windshield pillar. It shall be located in such a manner as not to cover, obscure, or overlay any part of any identification number affixed by the original manufacturer. Motor vehicles conforming to Canadian Motor Vehicle Safety Standard 115 are exempt from this paragraph.

6. In § 565.6:

a. paragraphs (a), (b), and (c)(4) are revised;

b. Tables V and VI are designated as Tables VI and VII;

c. new Table V is added at the end of paragraph (c)(4);

d. new Table VI is revised after paragraph (c)(5) and new Table VII is revised after paragraph (d)(1); and,

e. paragraph (d)(3) is revised.

These amended and new paragraphs and tables would read as follows:

§ 565.6 Content requirements.

* * * * *

(a) The first section shall consist of three characters that occupy positions one through three (1-3) in the VIN. This section shall uniquely identify the manufacturer and type of the motor vehicle if the manufacturer is a high-volume manufacturer. If the manufacturer is a low-volume manufacturer, positions one through three (1-3) along with positions twelve through fourteen (12-14) in the VIN shall uniquely identify the manufacturer and type of the motor vehicle. These characters are assigned in accordance with § 565.7(a). A “9” shall be placed in the third position of the VIN if the manufacturer identifier is six characters. A “9” in the third position always indicates the presence of a six-character manufacturer identifier. The National Highway Traffic Safety Administration offers access to manufacturer identifier assignments via its search engine at the following Internet Web site: http://www.nhtsa.dot.gov/cars/rules/manufacture.

(b) The second section shall consist of five characters, which occupy positions four through eight (4-8) in the VIN. This section shall uniquely identify the attributes of the vehicle as specified in Table I. For passenger cars, and for multipurpose passenger vehicles and trucks with a gross vehicle weight rating of 4536 kg (10,000 lb) or less, and low speed vehicles, the first, second, and third characters of this section shall be either alphabetic or numeric. The fourth character of this section shall be alphabetic. The fifth character may be either alphabetic or numeric. The characters utilized and their placement within the section may be determined by the manufacturer, but the specified attributes must be decipherable with information supplied by the manufacturer in accordance with § 565.7(c). In submitting the required information to NHTSA relating gross vehicle weight rating, the designations in Table II shall be used. The use of these designations within the VIN itself is not required. Tables I and II follow:

Table I—Type of Vehicle and Information Decipherable

Passenger car: Make, line, series, body type, engine type, and all restraint devices and their location.

Multipurpose passenger vehicle: Make, line, series, body type, engine type, gross vehicle weight rating.

Truck: Make, model or line, series, chassis, cab type, engine type, brake systems and gross vehicle weight rating.

Bus: Make, model or line, series, body type, engine type, and brake system.

Trailer, including trailer kits and incomplete trailer: Make, type of trailer, body type, length and axle configuration.

Motorcycle: Make, type of motorcycle, line, engine type, and net brake horsepower.

Incomplete vehicle other than a trailer: Make, model or line, series, cab type, engine type, and brake system.

Low speed vehicle: Make, engine type, brake system, all restraint devices and their location, body type, and gross vehicle weight rating.

* * * * *

(c) * * *

(4) The check digit is based on either the Fractional Remainder or the Decimal Equivalent Remainder as reflected in Table V. All Decimal Equivalent Remainders in Table V are rounded to the nearest thousandth.

Table V.—Ninth Position Check Digit Values
[Rounded to the nearest thousandth]
Fractional remainder | 0 | 1/11 | 2/11 | 3/11 | 4/11 | 5/11 | 6/11 | 7/11 | 8/11 | 9/11 | 10/11
Decimal equivalent remainder | 0 | 0.091 | 0.182 | 0.273 | 0.364 | 0.455 | 0.545 | 0.634 | 0.727 | 0.818 | 0.909
Check digit | 0 | 1 | 2 | 3 | 4 | 5 | 6 | 7 | 8 | 9 | X

The check digit, zero through nine (0-9) or the letter “X” shall appear in VIN position nine (9).

(5) A sample check digit calculation is shown in Table VI as follows:

Table VI.—Calculation of a Check Digit
VIN position | 1 | 2 | 3 | 4 | 5 | 6 | 7 | 8 | 9 | 10 | 11 | 12 | 13 | 14 | 15 | 16 | 17
Sample VIN | 1 | G | 4 | A | H | 5 | 9 | H |  | 5 | G | 1 | 1 | 8 | 3 | 4 | 1
Assigned value | 1 | 7 | 4 | 1 | 8 | 5 | 9 | 8 |  | 5 | 7 | 1 | 1 | 8 | 3 | 4 | 1
Weight factor | 8 | 7 | 6 | 5 | 4 | 3 | 2 | 10 | 0 | 9 | 8 | 7 | 6 | 5 | 4 | 3 | 2
Multiply assigned value times weight factor | 8 | 49 | 24 | 5 | 32 | 15 | 18 | 80 | 0 | 45 | 56 | 7 | 6 | 40 | 12 | 12 | 2
Add products: 8+49+24+5+32+15+18+80+0+45+56+7+6+40+12+12+2 = 411.
Divide by 11: 411/11 = 37 4/11 or 37.3636.
If the fourth digit is 5 or greater, round up. If the fourth digit is 4 or smaller, round down. In the example above, the remainder is 4/11 or 0.364 when rounded up.
Looking up the remainder in Table V—Ninth Position Check Digit Values indicates that ‘4’ is the check digit to be inserted in position nine (9) of the VIN for this sample digit calculation.

(d) * * *

(1) The first character of the fourth section shall represent the vehicle model year. The year shall be designated as indicated in Table VII as follows:

Table VII.—Year Codes for VIN
Year | Code
2005 | 5
2006 | 6
2007 | 7
2008 | 8
2009 | 9
2010 | A
2011 | B
2012 | C
2013 | D
2014 | E
2015 | F
2016 | G
2017 | H
2018 | J
2019 | K
2020 | L
2021 | M
2022 | N
2023 | P
2024 | R
2025 | S
2026 | T
2027 | V
2028 | W
2029 | X
2030 | Y
2031 | 1
2032 | 2
2033 | 3
2034 | 4
2035 | 5
2036 | 6
2037 | 7
2038 | 8
2039 | 9

(2) * * *

(3) The third through the eighth characters of the fourth section shall represent the number sequentially assigned by the manufacturer in the production process if the manufacturer is a high-volume manufacturer. If a manufacturer is a low-volume manufacturer, the third, fourth, and fifth characters of the fourth section, combined with the three characters of the first section, shall uniquely identify the manufacturer and type of the motor vehicle and the sixth, seventh, and eighth characters of the fourth section shall represent the number sequentially assigned by the manufacturer in the production process.

7. In § 565.7, paragraphs (a) and (d) are revised to read as follows:

§ 565.7 Reporting requirements.

* * * * *

(a) The National Highway Traffic Safety Administration (NHTSA) has contracted with the Society of Automotive Engineers (SAE) to coordinate the assignment of manufacturer identifiers. Manufacturer identifiers will be supplied by SAE at no charge. All requests for assignments of manufacturer identifiers should be forwarded directly to: Society of Automotive Engineers, 400 Commonwealth Drive, Warrendale, Pennsylvania, 15096, Attention: WMI Coordinator (telephone: 724-776-4841). Any requests for identifiers submitted to NHTSA will be forwarded to SAE. Manufacturers may request a specific identifier or may request only assignment of an identifier(s). SAE will review requests for specific identifiers to determine that they do not conflict with an identifier already assigned or block of identifiers already reserved. SAE will confirm the assignments in writing to the requester. Once confirmed by SAE, the identifier need not be resubmitted to NHTSA.

(b) * * *

(c) * * *

(d) The information required under paragraph (c) of this section shall be submitted at least 60 days prior to offering for sale the first vehicle identified by a VIN containing that information, or if information concerning vehicle characteristics sufficient to specify the VIN code is unavailable to the manufacturer by that date, then within one week after that information first becomes available. The information shall be addressed to: Administrator, National Highway Traffic Safety Administration, 1200 New Jersey Avenue, SE., Washington, DC 20590, Attention: VIN Coordinator.

Issued: September 19, 2007.
Stephen R. Kratzke,
Associate Administrator for Rulemaking.

[FR Doc. E7-18925 Filed 10-1-07; 8:45 am]

BILLING CODE 4910-59-P